DEPARTMENT OF HEALTH AND HUMAN SERVICES

Health Care Financing Administration

[HCFA-1172-N]

Medicare Program; January 10, 2001, Meeting of the Advisory Panel on Medicare Education

AGENCY: Health Care Financing Administration (HCFA), HHS.

ACTION: Notice of meeting.

SUMMARY: In accordance with section 10(a) of the Federal Advisory Committee Act, this notice announces a meeting on January 10, 2001 of the Advisory Panel on Medicare Education (the Panel). This Panel advises and makes recommendations to the Secretary of the Department of Health and Human Services (HHS) and the Administrator of the Health Care Financing Administration (HCFA) on opportunities for HCFA to optimize the effectiveness of the National Medicare Education Program and other HCFA programs that help Medicare beneficiaries understand Medicare and the range of Medicare options available with the passage of the Medicare+Choice Program. The Panel meeting is open to the public.

DATES: The meeting is scheduled for Wednesday, January 10, 2001, from 8 a.m. e.s.t until 5:15 p.m. e.s.t.

ADDRESSES: The meeting will be held at the Madison Hotel, at 1177 15th Street, NW., Washington, DC 20005, Telephone: (202) 862-1600.

FOR FURTHER INFORMATION CONTACT: Ms. Nancy Caliman, Public Affairs Specialist, Partnership Development Group, Center for Beneficiary Services, Health Care Financing Administration, 7500 Security Boulevard, S2-23-05, Baltimore, MD, 21244-1850, (410) 786-5052. Please refer to the HCFA Advisory Committees Information Line (1-877-449-5659 toll free)/(410-786-9379 local) or the Internet (http://www.hcfa.gov/events/apme/homepage.htm) for additional information and updates on committee activities, or by contacting Ms. Caliman via E-mail at APME@hcfa.gov. Press inquiries are handled through the HCFA Press Office at (202) 690-6145.

SUPPLEMENTARY INFORMATION: The Federal Advisory Committee Act (5 U.S.C. App. 2, Sec. 9(a)), Public Law 92-463, grants to the Secretary the authority to establish an advisory panel if the Secretary finds the panel necessary and in the public interest. The Secretary signed the charter establishing this Panel on January 21, 1999 (64 FR 7899, February 17, 1999). The Advisory Panel on Medicare Education advises us on opportunities to enhance the effectiveness of consumer education materials serving the Medicare program.

The goals of the Panel are as follows:

• Developing and implementing a national Medicare education program that describes the options for selecting a health plan under Medicare.

• Enhancing the Federal Government's effectiveness in informing the Medicare consumer, including the appropriate use of public-private partnerships.

• Expanding outreach to vulnerable and underserved communities, including racial and ethnic minorities, in the context of a national Medicare education program.

• Assembling an information base of best practices for helping consumers evaluate health plan options, and for building a community infrastructure for information, counseling, and assistance.

The current members of the Panel are: Diane Archer, J.D., President, Medicare Rights Center; David Baldridge, Executive Director, National Indian Council on Aging; Bruce Bradley, M.B.A., Director, Managed Care Plans, General Motors Corporation; Carol Cronin, Chairperson, Advisory Panel on Medicare Education; Joyce Dubow, M.U.P., Senior Policy Advisor, Public Policy Institute, AARP; Jennie Chin Hansen, Executive Director, On Lok Senior Services; Elmer Huerta, M.D., M.P.H., Director, Cancer Risk and Assessment Center, Washington Hospital Center; Bonita Kallestad, J.D., M.S., Western Minnesota Legal Services, Mid Minnesota Legal Assistance; Steven Larsen, J.D., M.A., Maryland Insurance Commissioner, Maryland Insurance Administration; Brian Lindberg, M.M.H.S., Executive Director, Consumer Coalition for Quality Health Care; Heidi Margulis, B.A., Vice President, Government Affairs, Humana, Inc.; Patricia Neuman, Sc.D., Director, Medicare Policy Project, Henry J. Kaiser Family Foundation; Elena Rios, M.D., M.S.P.H., President, National Hispanic Medical Association; Samuel Simmons, B.A., President and CEO, The National Caucus and Center on Black Aged, Inc.; Nina Weinberg, M.A., President, National Health Council; and Edward Zesk, B.A., Executive Director, Aging 2000.

The agenda for the January 10, 2001, meeting will include the following:

• Recap of the previous (September 21, 2000) meeting.

• Legislative and agency update.

• Presentation on the Federal agency budget process.

• Medicare education budget and priorities for the 2000/2001 and 2001/2002 budget periods.

• Panel discussion and examination of model programs that provide culturally and linguistically appropriate education and information services to the Medicare population.

• Public comment.

Individuals or organizations that wish to make 5-minute oral presentations on the agenda issues should contact Nancy Caliman by 12 noon, Wednesday, January 3, 2001, to be scheduled. The number of oral presentations may be limited by the time available. A written copy of the oral remarks should be submitted to Ms. Caliman no later than 12 noon, Wednesday, January 3, 2001. Anyone who is not scheduled to speak may submit written comments to Ms. Caliman by 12 noon, Wednesday, January 3, 2001. The meeting is open to the public, but attendance is limited to the space available. Individuals requiring sign language interpretation for the hearing impaired or other special accommodations should contact Ms. Caliman at least 15 days before the meeting.

(Section 222 of the Public Health Service Act (42 U.S.C. 217(a)) and section 10(a) of Public Law 92-463 (5 U.S.C. App. 2, section 10(a)); 41 CFR 101-6.1015)
(Catalog of Federal Domestic Assistance Program No. 93.773, Medicare—Hospital Insurance; and Program No. 93.774, Medicare—Supplementary Medical Insurance Program)
Dated: December 12, 2000.
Michael M. Hash,
Acting Administrator, Health Care Financing Administration.

[FR Doc. 00-32440 Filed 12-20-00; 8:45 am]

BILLING CODE 4120-01-P